DEPARTMENT OF ENERGY

Federal Energy Regulatory Commission

[Docket No. RP01-379-000]

Tuscarora Gas Transmission Company; Notice of Proposed Changes in FERC Gas Tariff

April 23, 2001.

Take notice that on April 18, 2001, Tuscarora Gas Transmission Company (Tuscarora) tendered for filing as part of its FERC Gas Tariff, Original Volume No. 1, First Revised Sheet No. 51, to become effective on May 18, 2001.

Tuscarora states that the purpose of this filing is revise its hourly delivery requirement in order to provide natural gas transportation service to new electric generating facilities.

Tuscarora states that copies of its filing have been mailed to all affected customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-10473 Filed 4-26-01; 8:45 am]

BILLING CODE 6717-01-M